DEPARTMENT OF LABOR

Office of the Secretary

Submission for OMB Review; Comment Request

October 11, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Interstate Arrangement for Combining Employment and Wages.

OMB Number: 1205-0029.

Affected Public: State, Local, or Tribal Government.

Frequency: Quarterly.

Number of Respondents: 53.

Number of Annual Responses: 212.

Estimated Time Per Response: 4 hours.

Total Burden Hours: 848.

Total Annualized Capital/Startup Costs: $0.

Total Annual Costs (operating/maintaining systems or purchasing services): $0.

Description: The data collected on the Form ETA-586 are authorized by 20 CFR Part 616 and Section 303(a)(6) of the Social Security Act. The ETA-586 report provides the Secretary of Labor with information necessary to measure the scope and effect of the program for combining employment and wages and to monitor the performance of each State in responding to wage transfer requests and the payment of benefits.

Ira L. Mills,
Departmental Clearance Officer.

[FR Doc. 01-26343 Filed 10-18-01; 8:45 am]

BILLING CODE 4510-30-M